DEPARTMENT OF HOMELAND SECURITY

U.S. Customs and Border Protection

Further Amended Notice of Implementation of Additional Duties on Products of the People's Republic of China Pursuant to the President's Executive Order 14195, Imposing Duties To Address the Synthetic Opioid Supply Chain in the People's Republic of China

AGENCY: U.S. Customs and Border Protection, Department of Homeland Security.

ACTION: Amended notice.

SUMMARY: In order to effectuate the President's Executive Order 14195, “Imposing Duties to Address the Synthetic Opioid Supply Chain in the People's Republic of China,” as amended by the President's Executive Order 14200, “Amendment to Duties Addressing the Synthetic Opioid Supply Chain in the People's Republic of China,” and further amended by the President's March 3, 2025 Executive Order, “Further Amendment to Duties Addressing the Synthetic Opioid Supply Chain in the People's Republic of China,” which imposed an increase in the specified rates of duty on imports of articles that are products of the People's Republic of China (PRC or China), the Secretary of Homeland Security is amending its February 12, 2025 Notice in the Federal Register, Amended Notice of Implementation of Additional Duties on Products of the People's Republic of China Pursuant to the President's February 1, 2025 Executive Order Imposing Duties to Address the Synthetic Opioid Supply Chain in the People's Republic of China, to reflect that appropriate action was needed to modify the Harmonized Tariff Schedule of the United States (HTSUS) as set out in the Annex to this notice.

DATES: The duties set out in the Annex to this document are effective with respect to products of the PRC (which include products of Hong Kong) that are entered for consumption, or withdrawn from warehouse for consumption, on or after 12:01 a.m. eastern standard time on March 4, 2025.

FOR FURTHER INFORMATION CONTACT: Brandon Lord, Executive Director, Trade Policy and Programs, Office of Trade, U.S. Customs and Border Protection, (202) 325-6432 or by email at traderemedy@cbp.dhs.gov. Susan Thomas, Executive Director, Cargo and Conveyance Security, Office of Field Operations, U.S. Customs and Border Protection, (202) 344-3401 or by email at traderemedy@cbp.dhs.gov.

SUPPLEMENTARY INFORMATION: On January 20, 2025, the President declared a national emergency with respect to the grave threat to the United States posed by the influx of illegal aliens and drugs into the United States in Proclamation 10886 (Declaring a National Emergency at the Southern Border). See National Emergencies Act (50 U.S.C. 1601 et seq.) (NEA).

On February 1, 2025, the President expanded the scope of the national emergency declared in that proclamation to cover the failure of the People's Republic of China (PRC or China) government to arrest, seize, detain, or otherwise intercept, chemical precursor suppliers, money launderers, other transnational criminal organizations, criminals at large, and drugs. In addition, the President determined that this failure to act on the part of the PRC constitutes an unusual and extraordinary threat, which has its source in substantial part outside the United States, to the national security, foreign policy, and economy of the United States. To address this threat, pursuant to the International Emergency Economic Powers Act (50 U.S.C. 1701 et seq.) (IEEPA), the NEA, section 604 of the Trade Act of 1974, as amended (19 U.S.C. 2483), and 3 U.S.C. 301, the President imposed ad valorem tariffs on all imports that are products of the PRC, excluding those encompassed by 50 U.S.C. 1702(b). See Executive Order 14195 (90 FR 9121) of February 1, 2025. Specifically, Executive Order 14195 adjusted duties on imported products of the PRC, by imposing, consistent with law, an additional 10 percent ad valorem rate of duty.

On February 5, 2025, the Secretary of Homeland Security issued a notice in the Federal Register, Implementation of Additional Duties on Products of the People's Republic of China Pursuant to the President's February 1, 2025 Executive Order Imposing Duties to Address the Synthetic Opioid Supply Chain in the People's Republic of China (hereinafter referred to as the “China Duties Notice”) (90 FR 9038) to reflect the appropriate action that was needed to modify the Harmonized Tariff Schedule of the United States (HTSUS), as set out in the Annex to that notice, to implement the additional duties imposed by Executive Order 14195.

Subsequently, on February 5, 2025, the President amended subsection (g) of section 2 of Executive Order 14195, to modify the application of 19 U.S.C. 1321 to goods covered by subsection (a) of section 2 of Executive Order 14195. See Executive Order 14200, Amendment to Duties Addressing the Synthetic Opioid Supply Chain in the People's Republic of China (February 5, 2025). Specifically, as amended, subsection (g) of section 2 of Executive Order 14195 provides that duty-free de minimis treatment under 19 U.S.C. 1321 is available for otherwise eligible covered articles described in the Executive Order, but shall cease to be available for such articles upon notification by the Secretary of Commerce, in consultation with the Secretary of the Treasury, to the President that adequate systems are in place to fully and expediently process and collect tariff revenue applicable pursuant to subsection (a) of section 2 of the Executive Order for covered articles otherwise eligible for de minimis treatment.

To effectuate the changes made by Executive Order 14200, DHS republished its China Duties Notice in its entirety with changes as needed to implement Executive Order 14195 as amended by Executive Order 14200. See Amended Notice of Implementation of Additional Duties on Products of the People's Republic of China Pursuant to the President's February 1, 2025 Executive Order Imposing Duties To Address the Synthetic Opioid Supply Chain in the People's Republic of China (90 FR 9431 February 12, 2025) (hereinafter “the February 12, 2025 CBP Notice”).

Executive Order 14195 directed the Secretary of Homeland Security, to determine and implement the necessary modifications to the Harmonized Tariff Schedule of the United States (HTSUS), consistent with law, to effectuate the Executive Order.

In order to implement the rates of duty imposed by Executive Order 14195, as amended by Executive Order 14200, effective on 12:01 a.m. eastern standard time on February 4, 2025, subchapter III of chapter 99 of the HTSUS was modified by the Annex to the February 12, 2025 CBP Notice.

Executive Order 14195, as amended by Executive Order 14200 and implemented by modifications to the HTSUS announced in the Annex to the February 12, 2025 CBP Notice, has been further modified by the President's March 3, 2025 Executive Order, “Further Amendment to Duties Addressing the Synthetic Opioid Supply Chain in the People's Republic of China”. The new E.O. increases the additional tariff rate from 10 percent to 20 percent for covered products of the PRC (which include products of Hong Kong) that are entered for consumption, or withdrawn from warehouse for consumption, on or after 12:01 a.m. eastern standard time on March 4, 2025.

The Annex to this notice modifies the Harmonized Tariff Schedule of the United States to provide for the increase of the tariff rate from 10 percent to 20 percent consistent with Executive Order [insert title]. Articles that are the products of China, which include products of Hong Kong in accordance with Executive Order 13936 on Hong Kong Normalization (See 85 FR 43413 (July 17, 2020)), excluding those encompassed by 50 U.S.C. 1702(b), that are entered for consumption, or withdrawn from warehouse for consumption, on or after 12:01 a.m. eastern standard time on March 4, 2025, will be subject to the additional ad valorem rate of duty provided for in new HTSUS heading 9903.01.24, except that goods entered for consumption, or withdrawn from warehouse for consumption, after 12:01 a.m. eastern standard time on February 4, 2025, and before 12:01 a.m. eastern standard time on March 7, 2025, that were loaded onto a vessel at the port of loading, or in transit on the final mode of transport prior to entry into the United States, before 12:01 a.m. eastern time on February 1, 2025, shall not be subject to such additional duty only if the importer certifies to CBP that the goods so qualify by declaring HTSUS heading 9903.01.23. The exception for goods that were in transit before February 1, 2025 is time limited, to prevent importers from abusing this provision when it is no longer realistic due to the passage of time, as provided in HTSUS heading 9903.01.23, and will only apply to goods entered for consumption, or withdrawn from warehouse for consumption, on or after 12:01 a.m. eastern standard time on February 4, 2025, and before 12:01 a.m. eastern standard time on March 7, 2025.

U.S. note 2(s) is amended to reflect that HTSUS heading 9903.01.20 applies to products of China and Hong Kong entered for consumption, or withdrawn from warehouse for consumption, on or after 12:01 a.m. eastern standard time February 4, 2025, and prior to 12:01 a.m. eastern standard time on March 4, 2025.

Imported products of China that are encompassed by 50 U.S.C. 1702(b) will not be subject to the additional ad valorem duty provided for in new HTSUS heading 9903.01.24, but such qualifying products, other than products for personal use included in accompanied baggage of persons arriving in the United States, must be declared and entered under HTSUS heading 9903.01.21 or HTSUS heading 9903.01.22. Specifically, HTSUS heading 9903.01.21 covers products encompassed by 50 U.S.C. 1702(b)(2) and HTSUS heading 9903.01.22 covers products encompassed by 50 U.S.C. 1702(b)(3).¹

¹ 50 U.S.C. 1702(b)(1) covers “postal, telegraphic, telephonic, or other personal communication[s], which do[ ] not involve a transfer of anything of value,” and hence does not encompass any imported articles of merchandise. 50 U.S.C. 1702(b)(4) covers “transactions ordinarily incident to travel to or from any country, including [1] importation of accompanied baggage for personal use, [2] maintenance within any country including payment of living expenses and acquisition of goods or services for personal use, and [3] arrangement or facilitation of such travel including nonscheduled air, sea, or land voyages.” Only the first of the three categories of exceptions covered by 50 U.S.C. 1702(b)(4)—products for personal use included in accompanied baggage of persons arriving in the United States—encompasses imported articles of merchandise, and such articles are excluded from the scope of the additional ad valorem duties provided for in new HTSUS headings 9903.01.20 and 9903.01.24 by the terms of those headings and U.S. note 2(u).

The additional ad valorem duty provided for in new HTSUS heading 9903.01.24 applies in addition to all other applicable duties, taxes, fees, exactions, and charges.

Further, pursuant to Executive Order 14200, the administrative exemption from duty and certain taxes at 19 U.S.C. 1321(a)(2)(C)—known as the “de minimis” exemption—continues to be available for articles covered by heading 9903.01.24 that are otherwise eligible for the exemption, including for eligible articles sent to the United States through the international postal network, but shall cease to be available for such articles upon notification by the Secretary of Commerce, in consultation with the Secretary of the Treasury, to the President that adequate systems are in place to fully and expediently process and collect tariff revenue applicable to articles covered by heading 9903.01.24 otherwise eligible for the “de minimis” exemption. Accordingly, articles that are the product of China, including products of Hong Kong, that are eligible for the de minimis exemption and are covered by heading 9903.01.24 may continue to request de minimis entry and clearance until such time as the Secretary of Commerce, in consultation with the Secretary of the Treasury, so notifies the President and further guidance is provided.

As of February 10, 2025, there will be no retroactive application of these changes for any shipments that would have otherwise qualified for de minimis treatment based on Executive Order 14200, “Amendment to Duties Addressing the Synthetic Opioid Supply Chain in the People's Republic of China.”

Products of China that are eligible for temporary duty exemptions or reductions under subchapter II to chapter 99 shall be subject to the additional ad valorem rate of duty imposed by heading 9903.01.24.

The additional duties imposed by heading 9903.01.24 shall not apply to goods for which entry is properly claimed under a provision of chapter 98 of the tariff schedule pursuant to applicable regulations of U.S. Customs and Border Protection (“CBP”), and whenever CBP agrees that entry under such a provision is appropriate, except for goods entered under heading 9802.00.80; and subheadings 9802.00.40, 9802.00.50, and 9802.00.60. For subheadings 9802.00.40, 9802.00.50, and 9802.00.60, the additional duties apply to the value of repairs, alterations, or processing performed (in the PRC), as described in the applicable subheading. For heading 9802.00.80, the additional duties apply to the value of the article assembled abroad (in the PRC), less the cost or value of such products of the United States, as described.

Articles that are products of the PRC, excluding those encompassed by 50 U.S.C. 1702(b), except those that are eligible for admission to a foreign trade zone under “domestic status” as defined in 19 CFR 146.43, and are admitted into a United States foreign trade zone on or after 12:01 a.m. eastern standard time on February 4, 2025, must be admitted as “privileged foreign status” as defined in 19 CFR 146.41. Such articles will be subject, upon entry for consumption, to the duties imposed by the Executive Order and the rates of duty related to the classification under the applicable HTSUS heading or subheading in effect at the time of admission into the United States foreign trade zone.

No drawback shall be available with respect to the additional duties imposed pursuant to the Executive Order.

Kristi Noem,
Secretary.

Annex

To Modify Chapter 99 of the Harmonized Tariff Schedule of the United States

Effective with respect to goods entered for consumption, or withdrawn from warehouse for consumption, on or after 12:01 a.m. eastern standard time on March 4, 2025, subchapter III of chapter 99 of the Harmonized Tariff Schedule of the United States (HTSUS) is modified:

1. by inserting the following new heading 9903.01.24 in numerical sequence, with the material in the new heading inserted in the columns of the HTSUS labeled “Heading/Subheading”, “Article Description”, “Rates of Duty 1—General”, “Rates of Duty 1—Special” and “Rates of Duty 2”, respectively:

2.

Heading/subheading | Article description | Rates of duty: 1: General | Rates of duty: 1: Special | Rates of duty: 2
“9903.01.24 | Except for products described in headings 9903.01.21, 9903.01.22, or 9903.01.23 articles the product of China and Hong Kong, as provided for in U.S. note 2(u) to this subchapter | The duty provided in the applicable subheading + 20% | The duty provided in the applicable subheading + 20% | No Change”.

2. by inserting the following new U.S. note 2(u) to subchapter III of chapter 99 of the HTSUS in numerical sequence:

“2. (u) For the purposes of heading 9903.01.24, products of China and Hong Kong entered for consumption, or withdrawn from warehouse for consumption, on or after 12:01 a.m., eastern standard time on March 4, 2025, other than products described in heading 9903.01.21, heading 9903.01.22, heading 9903.01.23, and other than products for personal use included in accompanied baggage of persons arriving in the United States, shall be subject to an additional 20% ad valorem rate of duty. Notwithstanding U.S. note 1 to this subchapter, all products of China and Hong Kong that are subject to the additional ad valorem rate of duty imposed by heading 9903.01.24 shall also be subject to the general rates of duty imposed on products of China and Hong Kong entered under subheadings in chapters 1 to 97 of the tariff schedule. Products of China and Hong Kong that are eligible for temporary duty exemptions or reductions under subchapter II to chapter 99 shall be subject to the additional ad valorem rate of duty imposed by heading 9903.01.24.

The additional duties imposed by heading 9903.01.24 shall not apply to goods for which entry is properly claimed under a provision of chapter 98 of the tariff schedule pursuant to applicable regulations of U.S. Customs and Border Protection (“CBP”), and whenever CBP agrees that entry under such a provision is appropriate, except for goods entered under heading 9802.00.80; and subheadings 9802.00.40, 9802.00.50, and 9802.00.60. For subheadings 9802.00.40, 9802.00.50, and 9802.00.60, the additional duties apply to the value of repairs, alterations, or processing performed (in China and Hong Kong), as described in the applicable subheading. For heading 9802.00.80, the additional duties apply to the value of the article assembled abroad (in China and Hong Kong), less the cost or value of such products of the United States, as described.

Products of China and Hong Kong that are provided for in heading 9903.01.24 shall continue to be subject to antidumping, countervailing, or other duties, taxes, fees, exactions and charges that apply to such products, as well as to the additional ad valorem rate of duty imposed by heading 9903.01.24.

Products of China and Hong Kong that are provided for in heading 9903.01.24 and that are otherwise eligible for the administrative exemption from duty and certain taxes at 19 U.S.C. 1321(a)(2)(C)—known as “de minimis” exemption—may continue to qualify for the exemption, but the de minimis exemption shall cease to be available for such articles upon notification by the Secretary of Commerce, in consultation with the Secretary of the Treasury, to the President that adequate systems are in place to fully and expediently process and collect tariff revenue applicable for covered articles otherwise eligible for the de minimis exemption.

3. by amending subdivision (s) of note 2 to insert “which have been entered for consumption, or withdrawn from warehouse for consumption, on or after 12:01 a.m. eastern standard time February 4, 2025, and prior to 12:01 a.m. eastern standard time on March 4, 2025,” after “products of China and Hong Kong” in the first sentence in the first paragraph of the subdivision.

[FR Doc. 2025-03677 Filed 3-3-25; 10:00 pm]

BILLING CODE 9111-14-P